DEPARTMENT OF LABOR

Employment and Training Administration

Agency Information Collection Activities: Extension of a Currently Approved Information Collection With Non-Substantive Changes; Comment Request

ACTION: 60-day notice of information collection under review: Labor Condition Application For H-1b, H-1b1, and E-3 Nonimmigrants; Forms ETA-9035, ETA-9035CP, ETA-9035E, and WH-4, OMB Control No. 1205-0310.

SUMMARY: The Department of Labor, as part of its continuing effort to reduce paperwork and respondent burden, is conducting a pre-clearance consultation to provide the general public and Federal agencies with an opportunity to comment on proposed and/or continuing collections of information in accordance with the Paperwork Reduction Act of 1995 (PRA95) [44 U.S.C. 3506(c)(2)(A)]. This consultation is undertaken to ensure that requested data can be provided in the desired format, reporting burden (time and financial resources) is minimized, collection instruments are clearly understood, and the impact of collection requirements on respondents can be properly assessed. Currently, the Employment and Training Administration is soliciting comments concerning Forms ETA-9035, ETA-9035CP, ETA-9035E, and WH-4; Labor Condition Application For H-1b, H-1b1, and E-3 Nonimmigrants. A copy of the proposed information collection request (ICR) can be obtained by contacting the office listed below in the addressee section of this notice or at this WEB site: http://www.doleta.gov/OMBCN/OMBControlNumber.cfm

DATES: Written comments must be submitted to the office listed in the addressee section below on or before August 25, 2008.

ADDRESSES: William L. Carlson, Administrator, Office of Foreign Labor Certification, U.S. Department of Labor, Room C4312, 200 Constitution Ave., NW., Washington, DC 20210. Phone (202) 693-3010 (this is not a toll-free number), fax (202) 693-2768, or e-mail at ETA.OFLC.Forms@dol.gov subject line: LCA.

SUPPLEMENTARY INFORMATION:

I. Background

The information collection is required by sections 212(n) and (t) and 214(c) of the Immigration and Nationality Act (INA) (8 U.S.C. 1182(n) and (t) and 1184(c)). The Department of Labor (Department) and the Department of Homeland Security (DHS) have promulgated regulations to implement the INA. Specifically for this collection, Title 20 CFR 655 Subparts H and I and Title 8 CFR 214.2(h)(4) are applicable. The INA mandates that no alien may enter the United States for the purpose of performing professional work on a temporary basis unless the U.S. employer has attested to the Secretary of Labor that the working conditions for the alien will be identical to those of other U.S. workers, that the salary will equal either the prevailing wage in the area of employment or match that being paid others in the employer's business—whichever is higher; that there is no strike or lockout at the employer's facility; and that the employer has met all other requirements of the program as specified in the regulations.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

In order to meet its statutory responsibilities under the INA, the Department needs to extend an existing collection of information pertaining to employers seeking to apply for labor condition applications to allow them to bring foreign labor to the United States on a temporary basis. Extensive program experience has demonstrated the need for further clarification on this information collection.

In the past the respondents have been for-profit businesses and not-for-profit institutions. On rare occasions the respondents have been local, state, tribal governments, or the federal government.

The Secretary of Labor uses the collected information to determine if employers are meeting their statutory and regulatory obligations.

The modifications being proposed to ETA Form 9035, 9035CP, and 9035E are primarily due to the elimination of the “Fax Back” system and converting exclusively to the electronic submission system except in rare cases of physical disability that prevents use of a computer. All three forms needed to be updated to eliminate all reference to the “Fax Back” system and provide more clarity to the user of the form, thereby obtaining more accurate information for the Department to assist in more efficient and effective adjudication of the requested benefit. The information collected remains the same.

Type of Review: Extension of Currently Approved Information Collection.

Agency: Employment and Training Administration.

Title: Labor Condition Application For H-1b, H-1b1, and E-3 Nonimmigrants.

OMB Control No.: 1205-0310.

Agency Number(s): Forms ETA-9035, ETA-9035CP, ETA-9035E, and WH-4.

Recordkeeping: On occasion.

Affected Public: Businesses or other for-profits and not-for profits, and Federal, State, Local or Tribal Governments.

Total Respondents: 420,000.

Estimated Total Burden Hours: 366,479.

Total Burden Cost (capital/startup): 0.

Total Burden Cost (operating/maintaining): 0.

Comments submitted in response to this comment request will be summarized and/or included in the request for Office of Management and Budget approval of the information collection request; they will also become a matter of public record.

Dated: June 19, 2008.
William L. Carlson,
Administrator, Office of Foreign Labor Certification.

[FR Doc. E8-14464 Filed 6-25-08; 8:45 am]

BILLING CODE 4510-FP-P